DEPARTMENT OF ENERGY

Federal Energy Regulatory Commission

[Docket No. RP03-333-000]

Great Lakes Gas Transmission Limited Partnership; Notice of Tariff Filing

April 9, 2003.

Take notice that on April 2, 2003, Great Lakes Gas Transmission Limited Partnership (Great Lakes) tendered for filing as part of its FERC Gas Tariff, Second Revised Volume No. 1, Substitute Ninth Revised Sheet No. 41, proposed to be effective February 1, 2003.

Great Lakes states that the proposed tariff sheet is being filed to resolve the chronology and timing of recently approved revisions to Great Lakes' tariff in Docket

Nos. RP02-396-002 and RP03-189-000, so that the proposed tariff sheet will reflect the currently approved and effective tariff language. Great Lakes respectfully requests a waiver of the notice requirement so that the effective date of the proposed tariff sheet may be kept consistent with its original effective date of February 1, 2003.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-9244 Filed 4-15-03; 8:45 am]

BILLING CODE 6717-01-P